TENNESSEE VALLEY AUTHORITY

Notice of Meeting

Agency Holding the Meeting: Tennessee Valley Authority (Meeting No. 08-04).

Time and Date: 10 a.m. EDT, August 20, 2008, TVA West Tower Auditorium, 400 West Summit Hill Drive, Knoxville, Tennessee.

Agenda

Old Business

Approval of minutes of May 19, 2008, Board meeting.

New Business

1. Chairman's Report.

A. Committee Assignments.

2. President's Report.

3. Report of the Finance, Strategy, Rates, and Administration Committee.

A. Fiscal Year 2009 budget.

B. Rate Review and possible adjustment.

C. Fiscal Year 2009 Bond Issuance Authorization.

D. Pricing issues.

i. LIP/LFP annual product reviews.

ii. Seasonal Pricing TOU/Market Days Pilots for FY09.

iii. Price quote for directly served customer.

E. TVA contribution to the TVA Retirement System.

4. Report of the Operations, Environment, and Safety Committee.

A. Settlement of claims with Bechtel and Stone & Webster Construction, Inc.

B. Contracts related to nuclear fuel.

i. Contracts with Demson Mines and Cameco for uranium.

ii. Contract with ARE VA NP for Blended Low Enriched Uranium processing services.

iii. Contract with Westinghouse for WBN Unit 2 fuel fabrication services.

C. Contract with General Electric for equipment, parts, and services.

D. Contract with ANR for gas transportation.

E. Revised Transmission Service Guidelines.

5. Report of the Audit, Governance, and Ethics Committee.

A. Committee Charters.

B. TVA Board Practice on delegations of authority.

6. Report of the Community Relations and Energy Efficiency Committee.

A. Lenoir City Park—Public recreation easement.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 13, 2008.
Maureen H. Dunn,
General Counsel and Secretary.

[FR Doc. E8-19182 Filed 8-19-08; 8:45 am]

BILLING CODE 8120-08-M